DEPARTMENT OF TRANSPORTATION

Federal Aviation Administration

Notice of Intent of Waiver With Respect to Land; Lorain County Regional Airport, Elyria, Ohio

AGENCY: Federal Aviation Administration (FAA), DOT.

ACTION: Notice.

SUMMARY: The FAA is considering a proposal to change approximately 218 acres of airport land from aeronautical use to non-aeronautical use and to authorize the sale of airport property located at Lorain County Regional Airport, Elyria, Ohio. The aforementioned land is not needed for aeronautical use. The subject property is located north of Runway 7/25 and is currently being used for agricultural purposes. The intent is to sell the land to the Lorain County Port Authority to market the property for future light industrial uses.

DATES: Comments must be received on or before August 13, 2025.

ADDRESSES: All requisite and supporting documentation will be made available for review by appointment at the FAA Detroit Airports District Office, Alex Erskine, Program Manager, 11677 S Wayne Rd., Ste. 107, Romulus, MI 48174. Telephone: (734) 229-2900/Fax: (734) 229-2950 and Lorain County Board of Commissioners, Karen L. Perkins, Deputy Administrator, 226 Middle Avenue, Elyria, OH. Telephone: (440) 328-2499.

Written comments on the Sponsor's request may be submitted using any of the following methods:

• Federal eRulemaking Portal: Go to http://www.regulations.gov, and follow the instructions for sending your comments electronically.

• Mail: Alex Erskine, Program Manager, Federal Aviation Administration, Detroit Airports District Office, 11677 S Wayne Rd., Ste. 107, Romulus, MI 48174.

• Hand Delivery: Deliver to mail address above between 8 a.m. and 5 p.m. Monday through Friday, excluding Federal holidays.

• Fax: (734) 229-2950.

FOR FURTHER INFORMATION CONTACT: Alex Erskine, Program Manager, Federal Aviation Administration, Detroit Airports District Office, 11677 S Wayne Rd., Ste. 107, Romulus, MI 48174. Telephone: (734) 229-2900/Fax: (734) 229-2950.

SUPPLEMENTARY INFORMATION: In accordance with section 47107(h) of Title 49, United States Code, this notice is required to be published in the Federal Register 30 days before modifying the land-use assurance that requires the property to be used for an aeronautical purpose.

The approximately 218-acre subject property is comprised of airport Parcels 8, 38, 39-40, and portions of airport Parcels 4, 5, 6, 7, 28, and 29. These airport Parcels were acquired with Federal funds under grant numbers 9-33-049-D801 (Parcels 4, 5, 6, 7, 28 and 29), 7-39-0048-01 (Parcel 8) and 3-39-0048-07 (Parcels 38, 39 and 40). The land is currently used for agricultural purposes and is proposed to be sold to the Lorain County Port Authority to market for future non-aeronautical light industrial purposes compatible with airport operations.

The Lorain County Regional Airport will receive fair market value for the sale of the land. The disposition of proceeds from the sale of this airport property will be in accordance with section 47107(b) of Title 49, United States Code.

This notice announces that the FAA is considering the release of the subject airport property at the Lorain County Regional Airport, Elyria, Ohio from federal land covenants, subject to a reservation for continuing right of flight as well as restrictions on the released property as required in FAA Order 5190.6B section 22.16. Approval does not constitute a commitment by the FAA to financially assist in the disposal of the subject airport property nor a determination of eligibility for grant-in-aid funding from the FAA.

Legal Descriptions

Split Parcel 4

Situated in the Township of New Russia, County of Lorain and State of Ohio, and known as being part of Original Russia Township Lot No. 9. Also being part of a 78.60 acre tract conveyed to Lorain County Board of Commissioners as recorded in Instrument No. 2006-0175132 of the Lorain County Records, being more definitely described as follows;

Commencing at a 1″ iron pin with brass cap in monument box found at the intersection of the centerline of Bechtel Road (60 feet wide) and the centerline of Albrecht Road (60 feet wide), also being the northeasterly corner of Original Russia Township Lot No. 9;

Thence, along the centerline of Albrecht Road and the northerly line of Original Russia Township Lot No. 9, North 89°27′19″ West, 997.66 feet to the northeasterly corner of land conveyed to Abby M. Lesniak as recorded in Instrument No. 2017-0649681 of the Lorain County Records;

Thence, leaving the centerline of Albrecht Road and the northerly line of Original Russia Township Lot No. 9, along Abby M. Lesniak's easterly line, South 01°32′37″ West, 400.06 feet to the northerly line of said 78.60 acre tract, and being the True Point of Beginning for the parcel herein described;

Thence, leaving Abby M. Lesniak's easterly line, along the northerly line of said 78.60 acre tract, South 01°32′37″ West, 147.94 feet to an iron pin set;

Thence, continuing along the northerly line of said 78.60 acre tract, South 89°27′19″ East, 600.10 feet to an iron pin set at the northeasterly corner thereof;

Thence, along the easterly line of said 78.60 acre tract, South 01°30′01″ West, 1413.77 feet to an iron pin set;

Thence, leaving the easterly line of said 78.60 acre tract, along the arc of a curve which deflects to the left, 1812.13 feet to an iron pin set, said curve having a radius of 500.00 feet, a central angle of 207°39′19″, and a chord of 971.02 feet which bears South 43°21′41″ West;

Thence, North 89°03′19″ West, 859.00 feet to an iron pin set in the westerly line of said 78.60 acre tract;

Thence, along the westerly line of said 78.60 acre tract, North 01°03′21″ East, 2267.86 feet to the northwesterly corner thereof, said point being referenced by a ⅝″ iron pin found 0.21 feet North and 0.17 feet West;

Thence, along the northerly line of said 78.60 acre tract, South 89°27′19″ East, 924.77 feet to the point of beginning, and passing through a ⅝″ capped rebar “KS ASSOCS INC PROP MARKER” in concrete found 20.00 feet westerly of said point of beginning.

Containing within said bounds 60.0021 acres of land as surveyed by KS Associates, Inc. under the supervision of Trevor A. Bixler, Professional Surveyor, No. 7730 in August, 2024.

Bearings are based on the Ohio State Plane, North Zone, NAD83(2011) Grid North.

All iron pins set are ⅝″ x 30″ capped rebar inscribed “KS ASSOCS INC PROP MARKER”.

Split Parcel 5A

Situated in the Township of New Russia, County of Lorain and State of Ohio, and known as being part of Original Russia Township Lot No. 9. Also being part of a 45.56 acre tract conveyed to Lorain County Board of Commissioners as recorded in Instrument No. 2006-0175132 of the Lorain County Records, being more definitely described as follows;

Commencing at a 1″ iron pin with brass cap in monument box found at the intersection of the centerline of Bechtel Road (60 feet wide) and the centerline of Albrecht Road (60 feet wide), also being the northeasterly corner of Original Russia Township Lot No. 9;

Thence, along the easterly line of Original Russia Township Lot No. 9, South 01°12′29″ West, 249.74 feet to an iron pin set in the northerly line of said 45.56 acre tract, and being the True Point of Beginning for the parcel herein described;

Thence, continuing along the easterly line of Original Russia Township Lot No. 9, South 01°12′29″ West,1933.19 feet to an iron pin set;

Thence, leaving the easterly line of Original Russia Township Lot No. 9, South 64°47′48″ West, 371.74 feet to an iron pin set;

Thence, along the arc of a curve which deflects to the left, 399.81 feet to an iron pin set in the westerly line of said 45.56 acre tract, said curve having a radius of 500.00 feet, a central angle of 45°48′54″, and a chord of 389.24 feet which bears North 09°54′13″ West;

Thence, along the westerly line of said 45.56 acre tract, North 01°30′01″ East, 1413.77 feet to an iron pin set;

Thence, long a southerly line of said 45.56 acre tract, North 89°27′19″ West, 600.10 feet to an iron pin set in the westerly line of said 45.56 acre tract;

Thence, along the westerly line of said 45.56 acre tract, North 01°32′37″ East, 298.00 feet to a 1″ iron pipe found at the northwesterly corner of said 45.56 acre tract;

Thence, along the northerly line of said 45.56 acre tract, South 89°27′19″ East, 599.87 feet to a ⅝″ capped rebar “KS ASSOCS INC PROP MARKER” found;

Thence, continuing along the northerly line of said 45.56 acre tract, South 89°29′19″ East, 399.25 feet to the point of beginning.

Containing within said bounds 22.3653 acres of land as surveyed by KS Associates, Inc. under the supervision of Trevor A. Bixler, Professional Surveyor, No. 7730 in August, 2024.

Bearings are based on the Ohio State Plane, North Zone, NAD83(2011) Grid North.

All iron pins set are ⅝″ x 30″ capped rebar inscribed “KS ASSOCS INC PROP MARKER”.

Split Parcel 5B

Situated in the Township of New Russia, County of Lorain and State of Ohio, and known as being part of Original Russia Township Lot No. 10. Also being part of a 45.56 acre tract conveyed to Lorain County Board of Commissioners as recorded in Instrument No. 2006-0175132 of the Lorain County Records, being more definitely described as follows;

Commencing at a 1″ iron pin with brass cap in monument box found at the intersection of the centerline of Bechtel Road (60 feet wide) and the centerline of Albrecht Road (60 feet wide), also being the northwesterly corner of Original Russia Township Lot No. 10;

Thence, along the westerly line of Original Russia Township Lot No. 10, South 01°12′29″ West, 249.74 feet to an iron pin set in the northerly line of said 45.56 acre tract, and being the True Point of Beginning for the parcel herein described;

Thence, leaving the westerly line of Original Russia Township Lot No. 10, along the northerly line of said 45.56 acre tract, South 89°29′19″ East, 344.41 feet to a ⅝″ capped rebar “KS ASSOCS INC PROP MARKER” in concrete found at the northeasterly corner of said 45.56 acre tract;

Thence, along the easterly line of said 45.56 acre tract, South 00°17′41″ West, 1752.69 feet to an iron pin set;

Thence, leaving the easterly line of said 45.56 acre tract, South 64°47′48″ West, 415.72 feet to an iron pin set in the westerly line of Original Russia Township Lot No. 10;

Thence, along the westerly line of Original Russia Township Lot No. 10, North 01°12′29″ East, 1933.19 feet to the point of beginning.

Containing within said bounds 15.1907 acres of land as surveyed by KS Associates, Inc. under the supervision of Trevor A. Bixler, Professional Surveyor, No. 7730 in August, 2024. Bearings are based on the Ohio State Plane, North Zone, NAD83(2011) Grid North.

Split Parcel 6

Situated in the Township of New Russia, County of Lorain and State of Ohio, and known as being part of Original Russia Township Lot No. 10. Also being part of a 27.82 acre tract conveyed to Lorain County Board of Commissioners as recorded in Instrument No. 2006-0175132 of the Lorain County Records, being more definitely described as follows;

Commencing at a 1″ iron pin with brass cap in monument box found at the intersection of the centerline of Fowl Road (60 feet wide) and the centerline of Albrecht Road (60 feet wide), also being the northeasterly corner of Original Russia Township Lot No. 10;

Thence, along the centerline of Albrecht Road and the northerly line of Original Russia Township Lot No. 10, North 89°32′04″ West, 1603.56 feet to the northwesterly corner of a 50.12 acre tract conveyed to Lorain County Board of Commissioners as recorded in Instrument No. 2006-0175132 of the Lorain County Records, said point being referenced by a railroad spike found 0.06 feet South and 0.28 feet East;

Thence, leaving the centerline of Albrecht Road and the northerly line of Original Russia Township Lot No. 10, along the westerly line of said 50.12 acre tract, South 00°14′49″ West, 1348.05 feet to a ⅝″ capped rebar “KS ASSOCS INC PROP MARKER” in concrete found at the northeasterly corner of said 27.82 acre tract and being the True Point of Beginning for the parcel herein described;

Thence, along the easterly line of said 27.82 acre tract, South 00°14′49″ West, 269.87 feet to an iron pin set;

Thence, leaving the easterly line of said 27.82 acre tract, South 64°47′48″ West, 888.27 feet to an iron pin set in the westerly line of said 27.82 acre tract;

Thence, along the westerly line of said 27.82 acre tract, North 00°17′41″ East, 654.64 feet to a ⅝″ iron pin found at the northwesterly corner of said 27.82 acre tract;

Thence, along the northerly line of said 27.82 acre tract, South 89°32′04″ East, 801.53 feet to the point of beginning.

Containing within said bounds 8.5073 acres of land as surveyed by KS Associates, Inc. under the supervision of Trevor A. Bixler, Professional Surveyor, No. 7730 in August, 2024.

Bearings are based on the Ohio State Plane, North Zone, NAD83(2011) Grid North.

All iron pins set are ⅝″ x 30″ capped rebar inscribed “KS ASSOCS INC PROP MARKER”.

Split Parcel 7

Situated in the Township of New Russia, County of Lorain and State of Ohio, and known as being part of Original Russia Township Lot No. 10. Also being part of a 50.12 acre tract conveyed to Lorain County Board of Commissioners as recorded in Instrument No. 2006-0175132 of the Lorain County Records, being more definitely described as follows;

Commencing at a 1″ iron pin with brass cap in monument box found at the intersection of the centerline of Fowl Road (60 feet wide) and the centerline of Albrecht Road (60 feet wide), also being the northeasterly corner of Original Russia Township Lot No. 10;

Thence, along the centerline of Albrecht Road and the northerly line of Original Russia Township Lot No. 10, North 89°32′04″ West, 804.32 feet to the northeasterly corner of said 50.12 acre tract and being the True Point of Beginning for the parcel herein described;

Thence, leaving the centerline of Albrecht Road and the northerly line of Original Russia Township Lot No. 10, along the easterly line of said 50.12 acre tract, South 00°18′56″ West, 1176.61 feet to an iron pin set;

Thence, leaving the easterly line of said 50.12 acre tract, South 56°15′58″ West, 356.52 feet to an iron pin set;

Thence, South 64°47′48″ West, 556.16 feet to an iron pin set in the westerly line of said 50.12 acre tract;

Thence, along the westerly line of said 50.12 acre tract, North 00°14′49″ East, 1617.92 feet to the centerline of Albrecht Road and the northerly line of Original Russia Township Lot No. 10, said point being referenced by a railroad spike found 0.06 feet South, 0.28 feet East;

Thence, along the centerline of Albrecht Road and the northerly line of Original Russia Township Lot No. 10, South 89°32′04″ East, 799.24 feet to the point of beginning.

Containing within said bounds 25.9483 acres of land including right of way and 25.3979 acres of land excluding right of way as surveyed by KS Associates, Inc. under the supervision of Trevor A. Bixler, Professional Surveyor, No. 7730 in August, 2024.

Bearings are based on the Ohio State Plane, North Zone, NAD83(2011) Grid North.

All iron pins set are ⅝″ x 30″ capped rebar inscribed “KS ASSOCS INC PROP MARKER”.

Parcel 8

Situated in the Township of Elyria, County of Lorain, and State of Ohio:

And being a part of Original Township Lot No. 1, west of the West Branch of Black River, bounded and described as follows:

Beginning at an iron pin at the Southeast corner of said Lot No. 1, being also the Southwest corner of Elyria Township and at the intersection of the center of Albrecht Road and Fowl Road; thence in the center of said Fowl Road and along the Westerly line of said lot, North 0°02′ East, a distance of 224.4 feet to a point; thence in the center of a ditch, North 88°22′ East, a distance of 1025.79 feet to the Westerly line of premises in said lot as deeded to Russell H. Manns and Thelma H. Manns, by deed dated June 24, 1936 and recorded in Volume 281, Page 67 of Lorain County Record of Deeds; thence along the Easterly line of premises so deeded to Russell H. Manns and Thelma H. Manns, South 0°07′ West and passing through an iron pin on the Northerly line of said Albrecht Road, a distance of 253.61 feet to the center of said road; thence in the center of Said Albrecht Road and Southerly line of said Lot. No. 1, West a distance of 1024.98 feet to the place of beginning, containing within said bounds 5.624 acres of land as surveyed J.W. Warden, Registered Surveyor, July 29, 1941, be the same more or less, but subject to all legal highways.

Split Parcel 28

Situated in the Township of New Russia, County of Lorain and State of Ohio, and known as being part of Original Russia Township Lot No. 18. Also being part of a 70.30 acre tract conveyed to Lorain County Board of Commissioners as recorded in Instrument No. 2006-0175132 of the Lorain County Records, being more definitely described as follows;

Beginning at a point in the centerline of Oberlin Road (60 feet wide) at the northwesterly corner of Original Russia Township Lot No. 18, said point being referenced by a 1″ iron pin with brass cap in monument box found 0.22 feet West;

Thence, along the northerly line Original Russia Township Lot No. 18, South 89°03′19″ East, 1633.44 feet to an iron pin set at the northeasterly corner of said 70.30 acre tract and passing through a ⅝″ capped rebar “KS ASSOCS INC PROP MARKER” in concrete found in the easterly right of way of Oberlin Road at 30.00 feet;

Thence, leaving the northerly line Original Russia Township Lot No. 18, along the easterly line of said 70.30 acre tract, South 01°22′40″ West, 1205.26 feet to an iron pin set;

Thence, leaving the easterly line of said 70.30 acre tract, South 73°19′39″ West, 1013.26 feet to an iron pin set in westerly line of said 70.30 acre tract;

Thence, along the westerly line of said 70.30 acre tract, North 01°20′41″ East, 880.93 feet to a 1″ iron pipe found;

Thence, along a southerly line of said 70.30 acre tract, South 89°24′34″ West, 667.27 feet to the centerline of Oberlin Road and passing through a ⅝″ iron pin found 29.76 feet easterly of said centerline;

Thence, along the centerline of Oberlin Road and the westerly line of Original Russia Township Lot No. 18, North 01°08′48″ East, 648.87 feet to the point of beginning.

Containing within said bounds 39.8765 acres of land including right of way and 39.4299 acres of land excluding right of way as surveyed by KS Associates, Inc. under the supervision of Trevor A. Bixler, Professional Surveyor, No. 7730 in August, 2024.

Bearings are based on the Ohio State Plane, North Zone, NAD83(2011) Grid North.

All iron pins set are ⅝″ x 30″ capped rebar inscribed “KS ASSOCS INC PROP MARKER”.

Split Parcel 29

Situated in the Township of New Russia, County of Lorain and State of Ohio, and known as being part of Original Russia Township Lot Nos. 18 and 19. Also being part of a 67.92 acre tract conveyed to Lorain County Board of Commissioners as recorded in Instrument No. 2006-0175132 of the Lorain County Records, being more definitely described as follows;

Commencing at a 1″ iron pin w/brass cap in monument box found at the intersection of the centerline of Oberlin Road (60 feet wide) and the centerline of Russia Road (60 feet wide), also being the southwesterly corner of Original Russia Township Lot No. 18;

Thence, along the centerline of Russia Road and the southerly line of Original Russia Township Lot No. 18, South 89°33′05″ East, 1622.54 feet to the southeasterly corner of a 70.30 acre tract conveyed to Lorain County Board of Commissioners as recorded in Instrument No. 2006-0175132 of the Lorain County Records,

Thence, leaving the centerline of Russia Road and the southerly line of Original Russia Township Lot No. 18, along the easterly line of said 70.30 acre tract, North 01°22′40″ East, 1525.11 feet to an iron pin set, and being the True Point of Beginning for the parcel herein described;

Thence, continuing along the easterly line of said 70.30 acre tract, North 01°22′40″ East, 1205.26 feet to an iron pin set in the northerly line of Original Russia Township Lot No. 18 at the northwesterly corner of said 67.92 acre tract;

Thence, leaving the easterly line of said 70.30 acre tract, along the northerly line of Original Russia Township Lot Nos. 18 and 19, South 89°03′19″ East, 1221.81 feet to an iron pin set at the northeasterly corner of said 67.92 acre tract;

Thence, leaving the northerly line of Original Russia Township Lot No. 19, along the easterly line of said 67.92 acre tract, South 01°27′11″ West, 422.47 feet to an iron pin set;

Thence, leaving the easterly line of said 67.92 acre tract, South 62°42′39″ West, 713.72 feet to an iron pin set;

Thence, South 00°30′37″ West, 254.52 feet to an iron pin set;

Thence, South 73°19′39″ West, 629.84 feet to the point of beginning.

Containing within said bounds 23.6837 acres as surveyed by KS Associates, Inc. under the supervision of Trevor A. Bixler, Professional Surveyor, No. 7730 in August, 2024.

Bearings are based on the Ohio State Plane, North Zone, NAD83(2011) Grid North.

All iron pins set are ⅝″ x 30″ capped rebar inscribed “KS ASSOCS INC PROP MARKER”.

Parcels 38, 39, 40

Situated in the Township of Russia and Township of Carlisle, County of Lorain and State of Ohio:

and being known as a part of original Russia Township Lot No. 10 and a part of Original Carlisle Township Section No. 1 and more fully described as follows:

Commencing for boundary at a monument box with an iron pin found at the Northwest corner of Original Carlisle Township No. 1, said pin being at the point of intersection of the centerline of Fowl Road and Albrecht Road; thence North 89°57′10″ East, along the centerline of Albrecht Road, a distance of 791.97 feet, to a railroad spike set; thence South 00°10′24″ East, passing thru an iron pin found at a distance of 30.00 feet, a total distance of 200.32 feet to an iron pin found; thence South 64°20′58″ West, a distance of 1768.67 feet to an iron pin found; thence North 00°08′21″ West, a distance of 655.15 feet to an iron pin found; thence South 89°59′20″ East a distance of 560.80 feet to an iron pin found; thence North 00°08′21″ West, passing thru an iron pin found at a distance of 280.30 feet, a total distance of 310.30 feet to a railroad spike set, said spike being on the North line of Original Russia Township Lot No. 10 and on the centerline of Albrecht Road; thence South 89°59′20″ East, along said lot line and road centerline, a distance of 243.34 feet to the true place of beginning containing 17.357 Acres, there being 7.090 Acres in Original Carlisle Township Section No. 1 and 10.267 Acres in Original Russia Township Lot No. 10, but subject to all legal highways, as surveyed by Lowell E Bender, Registered Surveyor No. 4978 on December 4, 1990.

All bearings are assumed and are for the determination of angles only.

Issued in Romulus, Michigan, on July 9, 2025.
John L. Mayfield Jr.,
Manager, Detroit Airports District Office, FAA, Great Lakes Region.

[FR Doc. 2025-13077 Filed 7-11-25; 8:45 am]

BILLING CODE 4910-13-P